DEPARTMENT OF AGRICULTURE

Forest Service

Assessment Report of Ecological, Economic and Social Conditions, Trends and Sustainability for the Custer Gallatin National Forest, Carbon, Carter, Gallatin, Madison, Meagher, Park, Powder River, Rosebud, Stillwater, Sweet Grass, Counties, Montana, and Harding County, South Dakota

AGENCY: Forest Service, USDA.

ACTION: Notice of initiating the assessment phase of the forest plan revision for the Custer Gallatin National Forest.

SUMMARY: The Custer Gallatin National Forest, located in southern Montana and northwest South Dakota, is initiating the first phase of the forest planning process pursuant to the 2012 National Forest System Land Management Planning rule (36 CFR part 219). This process will result in a revised forest land management plan (Forest Plan) which describes the strategic direction for management of forest resources on the Custer Gallatin National Forest for the next ten to fifteen years. The planning process encompasses three-stages: assessment, plan revision, and monitoring. The first stage of the planning process involves assessing ecological, social, and economic conditions of the planning area, which is documented in an assessment report.

The Forest is inviting the public to contribute in the development of the Assessment. The Forest will be hosting public forums near the end of February into early March 2016 with a second set of meetings forthcoming in June 2016. We will invite the public to share information relevant to the assessment including existing information, current trends, and local knowledge. Public engagement opportunities associated with the development of the Assessment will be announced on the Web site cited below.

DATES: From January 2016 through August 2016, the public is invited to participate in the development of the Assessment. The draft assessment report for the Custer Gallatin National Forest is being initiated and is expected to be available in August 2016 on the Forest Web site at: http://www.fs.usda.gov/land/custergallatin/landmanagement.

Following completion of the assessment, the Forest will initiate procedures pursuant to the National Environmental Policy Act (NEPA) to prepare and evaluate a revised forest plan.

ADDRESSES: Written correspondence can be sent to Custer Gallatin National Forest, P.O. Box 130, Bozeman, MT 59771, or sent via email to cgplanrevision@fs.fed.us. All correspondence, including names and addresses when provided, are placed in the record and are available for public inspection and copying.

FOR FURTHER INFORMATION CONTACT: Virginia Kelly, Forest Plan Revision Team Leader at 406-587-6704. Individuals who use telecommunication devices for the deaf (TDD) may call the Federal Information Relay Service (FIRS) at 1-800-877-8339 between 8:00 a.m. and 8:00 p.m. (Eastern time), Monday through Friday.

More information on the planning process can also be found on the Custer Gallatin National Forest Planning Web site at http://www.fs.usda.gov/land/custergallatin/landmanagement.

SUPPLEMENTARY INFORMATION: The National Forest Management Act (NFMA) of 1976 requires that every National Forest System (NFS) unit develop a land management plan (LMP). On April 9, 2012, the Forest Service finalized its land management planning rule (2012 Planning Rule, 36 CFR part 291), which describes requirements for the planning process and the content of the land management plans. Forest plans describe the strategic direction for management of forest resources for ten to fifteen years, and are adaptive and amendable as conditions change over time. Pursuant to the 2012 Forest Planning Rule (36 CFR part 219), the planning process encompasses three-stages: assessment, plan revision, and monitoring. The first stage of the planning process involves assessing social, economic, and ecological conditions of the planning area, which is documented in an assessment report. This notice announces the start of the initial stage of the planning process, which is the development of the assessment report.

The second stage, formal plan revision, involves the development of our Forest Plan in conjunction with the preparation of an Environmental Impact Statement under the NEPA. Once the plan revision is completed, it will be subject to the objection procedures of 36 CFR part 219, subpart B, before it can be approved. The third stage of the planning process is the monitoring and evaluation of the revised plan, which is ongoing over the life of the revised plan.

The assessment rapidly evaluates existing information about relevant ecological, economic, cultural and social conditions, trends, and sustainability and their relationship to land management plans within the context of the broader landscape. This information builds a common understanding prior to entering formal plan revision. The development of the assessment will include public engagement.

With this notice, the Custer Gallatin National Forest invites other governments, non-governmental parties, and the public to contribute in assessment development. The intent of public engagement during development of the assessment is to identify as much relevant information as possible to inform the upcoming plan revision process. We encourage contributors to share material about existing conditions, trends, and perceptions of social, economic, and ecological systems relevant to the planning process. The assessment also supports the development of relationships with key stakeholders that will be used throughout the plan revision process

As public meetings, other opportunities for public engagement, and public review and comment opportunities are identified to assist with the development of the forest plan revision, public announcements will be made, notifications will be posted on the Forest's Web site at http://www.fs.usda.gov/main/custergallatin/ and information will be sent out to the Forest's mailing list. If anyone is interested in being on the Forest's mailing list to receive these notifications, please contact Virginia Kelly at the address identified above, or by sending an email cgplanrevision@fs.fed.us.

Responsible Official

The responsible official for the revision of the land management plan for the Custer Gallatin National Forest is Mary Erickson, Forest Supervisor, Custer Gallatin National Forest.

Dated: January 29, 2016.
Mary Erickson,
Forest Supervisor.

[FR Doc. 2016-02104 Filed 2-3-16; 8:45 am]

BILLING CODE 3410-11-P